NUCLEAR REGULATORY COMMISSION

[Docket No. NRC-2014-0026]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on April 21, 2014.

1. Type of submission, new, revision, or extension: Extension.

2. The title of the information collection: 10 CFR Part 75, “Safeguards on Nuclear Material—Implementation of US/IAEA Agreement.”

3. Current OMB approval number: 3150-0055.

4. The form number if applicable: Not Applicable.

5. How often the collection is required: Reporting is done when specified events occur. Recordkeeping for nuclear material accounting and control information is done in accordance with specific instructions.

6. Who will be required or asked to report: Licensees of facilities on the U.S. eligible list who have been selected by the International Atomic Energy Agency (IAEA) for reporting or recordkeeping activities.

7. An estimate of the number of annual responses: 7 (2 reporting responses + 5 recordkeepers).

8. The estimated number of annual respondents: 5.

9. An estimate of the total number of hours needed annually to complete the requirement or request: 3,960.4.

10. Abstract: Part 75 of Title 10 of the Code of Federal Regulations, requires selected licensees to provide reports of nuclear material inventory and flow for selected facilities under the US/IAEA Safeguards Agreement, permit inspections by IAEA inspectors, complementary access of IAEA inspectors under the Additional Protocol, give immediate notice to the NRC in specified situations involving the possibility of loss of nuclear material, and give notice for imports and exports of specified amounts of nuclear material. These licensees will also follow written material accounting and control procedures, although actual reporting of transfer and material balance records to the IAEA will be done through the U. S. State system (Nuclear Materials Management and Safeguards System, collected under OMB clearance numbers 3150-0003, 3150-0004, 3150-0057, and 3150-0058.) The NRC needs this information to implement its responsibilities under the US/IAEA agreement.

The public may examine and have copied for a fee publicly-available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments and questions should be directed to the OMB reviewer listed below by September 11, 2014. Comments received after this date will be considered if it is practical to do so, but assurance of consideration cannot be given to comments received after this date.

Danielle Y. Jones, Desk Officer, Office of Information and Regulatory Affairs (3150-0055), NEOB-10202, Office of Management and Budget, Washington, DC 20503.

Comments can also be emailed to Danielle_Y_Jones@omb.eop.gov or submitted by telephone at 202-395-1741.

The Acting NRC Clearance Officer is Kristen Benney, telephone: 301-415-6355.

Dated at Rockville, Maryland, this 7th day of August, 2014.
For the Nuclear Regulatory Commission.
Kristen Benney,
Acting NRC Clearance Officer, Office of Information Services.

[FR Doc. 2014-19015 Filed 8-11-14; 8:45 am]

BILLING CODE 7590-01-P